DEPARTMENT OF ENERGY

Federal Energy Regulatory Commission

[Project No. 2576-100]

Before Commissioners, First Light Hydro Generating Company; Notice Rejecting Requests for Rehearing

August 22, 2007.

On July 3, 2007, Commission staff issued an order modifying and approving a shoreline management plan pursuant to article 407 of the license for Housatonic River Project located in Fairfield, Litchfield and New Haven Counties, Connecticut.¹ On August 1, 2007 and August 2, 2007, the City of Dansbury and Connecticut Department of Environmental Protection filed requests for rehearing in this proceeding.

¹ FirstLight Hydro Generating Co., 120 FERC ¶ 62,010 (2007).

Under section 313(a) of the Federal Power Act, 16 U.S.C. 825l(a), a request for rehearing may be filed only by a party to the proceeding. In order to become a party to any Commission proceeding, an entity must file a motion to intervene pursuant to Rule 214 of the Commission's Rules of Practice and Procedure, 18 CFR 385.214. The City of Dansbury and Connecticut Department of Environmental Protection did not file motions to intervene. Therefore, their requests for rehearing are rejected.

This notice constitutes final agency action. Requests for rehearing by the Commission of the rejection notice must be filed within 30 days of the date of issuance of this notice, pursuant to 18 CFR 385.713 (2007).

Kimberly D. Bose,
Secretary.

[FR Doc. E7-17246 Filed 8-30-07; 8:45 am]

BILLING CODE 6717-01-P